FEDERAL RESERVE SYSTEM

Change in Bank Control Notices; Acquisitions of Shares of a Bank or Bank Holding Company

The notificants listed below have applied under the Change in Bank Control Act (Act) (12 U.S.C. 1817(j)) and 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than May 21, 2021.

A. Federal Reserve Bank of Kansas City (Jeffrey Imgarten, Assistant Vice President) 1 Memorial Drive, Kansas City, Missouri 64198-0001:

1. The NBM Corporation 401(k) Employee Stock Option Plan, McAlester, Oklahoma, the Matthew M. McGowan Revocable Trust, the McGowan Children's Trust, both of Oklahoma City, Oklahoma, and Matthew M. McGowan, as trustee of the aforementioned trusts, McAlester, Oklahoma; the Mary Nancy McGowan Revocable Trust UTA, Oklahoma City, Oklahoma, Mary N. McGowan, as trustee, McAlester, Oklahoma; the Michelle Tompkins Living Trust, Michelle McGowan Tompkins, as trustee, and Pendleton T. Tompkins, all of Oklahoma City, Oklahoma; Michal Shannon McGowan Helvey and Hannah McGowan Hughes, both of Edmond, Oklahoma; William McGowan and Madeline McGowan, both of McAlester, Oklahoma; Michael J. Tompkins, Tulsa, Oklahoma; and certain minor child, Edmond, Oklahoma; to join the McGowan Family Group, a group acting in concert, to retain voting shares of NBM Corporation, and thereby indirectly retain voting shares of The Bank, National Association, both of McAlester, Oklahoma.

B. Federal Reserve Bank of Dallas (Karen Smith, Director, Applications) 2200 North Pearl Street, Dallas, Texas 75201-2272:

1. The DT 2020 Savings Trust, Debra June Tolleson and John Carter Tolleson, Jr., as co-trustees, the JT 2020 Secure Trust, John Carter Tolleson, as trustee, and Debra June Tolleson, all of Dallas, Texas; to acquire voting shares of Tolleson Wealth Management, Inc., and thereby indirectly acquire Tolleson Private Bank, both of Dallas, Texas.

Additionally, Kathryn Covert Tolleson, Amy Tolleson Baldwin, Peter Baldwin, the John Carter Tolleson 1999 Trust, John Carter Tolleson, Jr., as trustee, and four trusts fbo minor children, John Carter Tolleson, Jr. and Kathryn Covert Tolleson, as co-trustees and two trusts fbo minor children, Amy Tolleson Baldwin and Peter Baldwin, as co-trustees, and all of Dallas, Texas; to join the Tolleson Family Control Group, a group acting in concert, to retain voting shares of Tolleson Wealth Management, Inc., and thereby indirectly retain voting shares of Tolleson Private Bank.

Board of Governors of the Federal Reserve System, April 30, 2021.
Michele Taylor Fennell,
Deputy Associate Secretary of the Board.

[FR Doc. 2021-09608 Filed 5-5-21; 8:45 am]

BILLING CODE P